DEPARTMENT OF HEALTH AND HUMAN SERVICES

National Institutes of Health

Center for Scientific Review; Amended Notice of Meeting

Notice is hereby given of a change in the meeting of the Center for Scientific Emphasis Panel, July 26, 2001, 6 PM to July 27, 2001, 5 PM, Bethesda Marriott Suites, 6711 Democracy Boulevard, Bethesda, MD, 20817 which was published in the Federal Register on July 16, 2001, 66 FR 37044-37046.

The meeting will be held at the Bethesda Marriott, Pooks Hill from 7 PM to 5 PM. The dates remain the same. The meeting is closed to the public.

Dated: July 23, 2001.
LaVerne Y. Stringfield,
Director, Office of Federal Advisory Committee Policy.

[FR Doc. 01-19075 Filed 7-31-01; 8:45 am]

BILLING CODE 4140-01-M